DEPARTMENT OF HEALTH AND HUMAN SERVICES

Health Resources and Services Administration

Notice To Announce Project Period Extensions With Funding for Health Center Program Award Recipients in Pago Pago, American Samoa; Bishop, California; Baltimore, Maryland; and Worcester, Massachusetts

AGENCY: Health Resources and Services Administration (HRSA), Department of Health and Human Services.

ACTION: Notice.

SUMMARY: Additional grant funds were provided to four Health Center Program award recipients with project periods ending in fiscal year (FY) 2019 to extend their project periods by up to four months to ensure the ongoing delivery of services until a new award could be made.

SUPPLEMENTARY INFORMATION:

Recipients of the Award: Four award recipients, as listed in Table 1, in Pago Pago, American Samoa; Bishop, California; Baltimore, Maryland; and Worcester, Massachusetts.

Amount of Non-Competitive Awards: $3,066,387.

Period of Supplemental Funding: FY 2019.

Assistance Listings (CFDA) Number: 93.224.

Authority: Public Health Service Act, Section 330, as amended (42 U.S.C. 254b, as amended).

Justification: HRSA extended the FY 2019 project periods with prorated supplemental grant funds to four award recipients by up to four months until a new award is made for each service area. Continued funding to the Health Center Program award recipients ensured that individuals in the service areas received uninterrupted access to needed health care services. The approvals enabled HRSA to support consistent health care to beneficiaries, eliminate delays in funding gaps, and demonstrate administrative efficiencies. HRSA awarded approximately $3 million to the four existing Health Center Program award recipients noted in Table 1.

Table 1—Recipients and Award Amounts
Grant No. | Award recipient name | City, state | Extension length (months) | Award amount
H80CS02470 | American Samoa Government Department of Health | Pago Pago, American Samoa | 3 | $775,917
H80CS26629 | Toiyabe Indian Health Project, Inc | Bishop, California | 4 | 382,549
H80CS00067 | Parkwest Health Systems, Inc | Baltimore, Maryland | 4 | 1,326,373
H80CS00003 | Community Healthlink, Inc | Worcester, Massachusetts | 4 | 581,548

FOR FURTHER INFORMATION CONTACT: Olivia Shockey, Expansion Division Director, Office of Policy and Program Development, Bureau of Primary Health Care, Health Resources and Services Administration, at oshockey@hrsa.gov or 301-594-4300.

Dated: October 8, 2019.
Thomas J. Engels,
Acting Administrator.

[FR Doc. 2019-22984 Filed 10-21-19; 8:45 am]

BILLING CODE 4165-15-P